DEPARTMENT OF JUSTICE

Notice of Lodging of Consent Decree in Comprehensive Environmental Response, Compensation and Liability Act Cost Recovery Action

In accordance with Departmental policy, 28 CFR 50.7, notice is hereby given that a Consent Decree in United States v. Agere Systems, Inc., et al., Civil Action No. 02-CV-1681 was lodged with the United States District Court for the Eastern District of Pennsylvania on March 27, 2002.

The Consent Decree resolves the United States' claims against twelve defendants—Agere Systems, Inc.; American Color and Chemical, LLC; Carpenter Technology Corporation; Continental Holdings, Inc.; Exide Technologies, Inc.; The Glidden Company; Hofmann Industries, Inc.; Honeywell International Inc.; Quadrant EPP, Inc.; Sonoco Fibre Drum, Inc.; Sonoco Products Company; and Unisource Worldwide, Inc. (“Settling Defendants”)—under Section 107(a) of the Comprehensive Environmental Response, Compensation and Liability Act (“CERCLA”), 42 U.S.C. 9607(a), for past response costs incurred by the United States at the Berks Landfill Superfund Site in Spring Township, Berks County, Pennsylvania. The Consent Decree requires the Settling Defendants to pay $1,100,000.00 to the United States.

The Department of Justice will accept written comments on the proposed Consent Decree for thirty (30) days from the date of publication of this notice. Please address comments to the Assistant Attorney General, Environment and Natural Resources Division, Department of Justice, PO Box 7611, Ben Franklin Station, Washington, DC 20044-7611 and refer to United States v. Agere Systems, Inc., DOJ Ref. No 90-11-2-1347/1.

Copies of the proposed Consent Decree may be examined at the Office of the United States Attorney, Eastern District of Pennsylvania, 615 Chestnut Street, Suite 1250, Philadelphia, PA 19106, and at EPA Region III, 1650 Arch Street, Philadelphia, PA 19103-2029. Copies of the proposed Consent Decree may also be obtained by mail from the U.S. Department of Justice, Consent Decree Library, P.O. Box 7611, Washington, DC 20044-7611, or by faxing a request to Tonia Fleetwood, facsimile no. (202) 514-0097, phone confirmation no. (202) 514-1547. When requesting copies, please enclose a check to cover the twenty-five cents per page reproduction costs payable to the “Consent Decree Library” in the amount of $9.00 and reference United States v. Agere Systems, Inc., DOJ Ref. No. 90-11-2-1347/1.

Robert D. Brook,
Assistant Chief, Environmental Enforcement Section, Environment and Natural Resources, Division, Department of Justice.

[FR Doc. 02-8094 Filed 4-3-02; 8:45 am]

BILLING CODE 4410-15-M